NATIONAL SCIENCE FOUNDATION

Agency Information Collection Activities: Proposed Collection; Comment Request

AGENCY: National Science Foundation.

ACTION: Notice and request for comments.

SUMMARY: The National Science Foundation (NSF) is announcing plans to request renewal of the Survey of Doctorate Recipients (OMB No.: 3145-0020). In accordance with the requirement of section 3506(c)(2)(A) of the Paperwork Reduction Act of 1995 (Pub. L. 104-13), we are providing opportunity for public comment on this action. After obtaining and considering public comment, NSF will prepare the submission requesting that OMB approve clearance of this collection for three years.

DATES: Written comments on this notice must be received by November 18, 2016 to be assured consideration. Comments received after that date will be considered to the extent practicable.

FOR FURTHER INFORMATION CONTACT: Contact Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays). You may also obtain a copy of the data collection instrument and instructions from Ms. Plimpton.

SUPPLEMENTARY INFORMATION:

Comments: Comments are invited on (a) whether the proposed collection of information is necessary for the proper performance of the functions of the NSF, including whether the information shall have practical utility; (b) the accuracy of the NSF's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Title of Collection: Survey of Doctorate Recipients.

OMB Approval Number: 3145-0020.

Expiration Date of Approval: August 31, 2018.

Type of Request: Intent to seek approval to extend an information collection for three years.

Abstract: The Survey of Doctorate Recipients (SDR) has been conducted biennially since 1973 and is a longitudinal survey. The 2017 SDR will consist of a sample of individuals less than 76 years of age who have earned a research doctoral degree in a science, engineering or health (SEH) field from a U.S. institution. The purpose of this panel survey is to collect data that will be used to provide national estimates on the doctoral science and engineering workforce and changes in their employment, education and demographic characteristics. The SDR is sponsored by the National Center for Science and Engineering Stataistics (NCSES) within the NSF and the National Institutes of Health. Data will be obtained by web survey, mail questionnaire, and computer-assisted telephone interviews beginning in February 2017. Information from the SDR are used in assessing the quality and supply of the nation's SEH personnel resources for educational institutions, private industry, and professional organizations, as well as federal, state, and local governments. A public release file of the collected data, designed to protect respondent confidentiality, will be made available to researchers, reporters, and other interested persons on the Internet.

The National Science Foundation Act of 1950, as subsequently amended, includes a statutory charge to “. . . provide a central clearinghouse for the collection, interpretation, and analysis of data on scientific and engineering resources, and to provide a source of information for policy formulation by other agencies of the Federal Government.” The SDR is designed to comply with these mandates by providing information on the supply and utilization of the nation's doctoral level scientists and engineers.

The survey data will be collected in conformance with the Confidential Information Protection and Statistical Efficiency Act of 2002 and the individual's response to the survey is voluntary. NSF will ensure that all information collected will be kept strictly confidential and will be used only for statistical purposes.

Use of the Information: The NSF uses the information from the SDR to prepare congressionally mandated reports such as Women, Minorities and Persons with Disabilities in Science and Engineering and Science and Engineering Indicators. These two reports are made available, in full, on the internet. However, summary Digests of facts and figures from these lengthy reports are made available both in print and online. Although NSF publishes statistics from the SDR in many reports, a full report with over 80 tables is produced online in the biennial series, Characteristics of Scientists and Engineers with U.S. Doctorates.

Expected Respondents. The NCSES within NSF enhanced and expanded the sample for the prior 2015 cycle of the SDR to measure employment outcomes according to the eligible SEH fine fields of degree captured in the Survey of Earned Doctorates. Providing reliable estimates by fine fields required expanding the 2013 SDR sample from approximately 47,000 to 120,000 in 2015. Another effect of expanding the 2015 SDR sample is the enhanced production of reliable estimates of SEH fine fields by various demographic characteristics, such as gender, ethnicity, and race. The 2017 SDR will maintain the 2015 expanded sample along with a new sample of about 10,000 doctorates from the most recent 2014 and 2015 academic years and will not exceed 123,000 individuals in total with U.S. earned doctorates in SEH fields. NSF expects the overall 2017 SDR response rate to be approximately 75 percent.

Estimate of Burden. The amount of time to complete the questionnaire may vary depending on an individual's circumstances; however, on average it takes approximately 25 minutes. Thus, NSF estimates that the total annual burden for the 2017 SDR will be 38,438 hours (that is, 123,000 respondents at 75% response rate for 25 minutes).

Dated: September 13, 2016.
Suzanne H. Plimpton,
Reports Clearance Officer, National Science Foundation.

[FR Doc. 2016-22402 Filed 9-16-16; 8:45 am]

BILLING CODE 7555-01-P